ENVIRONMENTAL PROTECTION AGENCY

[FRL-7839-1]

Science Advisory Board Staff Office; Notification of an Upcoming Teleconference of the Science Advisory Board Second Generation Model Advisory Panel

AGENCY: Environmental Protection Agency (EPA).

ACTION: Notice.

SUMMARY: The EPA, Science Advisory Board (SAB) Staff Office announces a teleconference of the Second Generation Model Advisory Panel to discuss its plan for providing advice to EPA on this model.

DATES: A public teleconference of the SAB Second Generation Model Advisory Panel will be held from 2 p.m. to 5 p.m. Eastern time on December 2, 2004.

FOR FURTHER INFORMATION CONTACT: Members of the public who wish to obtain the call-in number and access code to participate in the teleconference may contact Dr. Holly Stallworth, EPA Science Advisory Board Staff (1400F), U.S. Environmental Protection Agency, 1200 Pennsylvania Ave., NW., Washington, DC 20460; telephone/voice mail: (202) 343-9867 or via e-mail at stallworth.holly@epa.gov.

Technical Contact: The technical contact in EPA's Office of Atmospheric Programs for the Second Generation Model is Michael Leifman who can be reached at leifman.michael@epa.gov or 202-343-9380.

SUPPLEMENTARY INFORMATION: Background: EPA's Office of Atmospheric Programs had requested the SAB to provide advice on the Second Generation Model. The SAB Staff Office has formed a SAB Panel to respond to the Agency's request. Background on the Second Generation Model Advisory Panel was provided in a Notice published on July 9, 2004 (69 FR 41474-41475). A final roster of the Panel, a meeting agenda, and draft charge questions to the SAB will be posted on the SAB Web site (http://www.epa.gov/sab/) prior to the meeting. Additional background material on the Second Generation Model may be found at: http://www.epa.gov/air/sgm—sab.html. The purpose of this upcoming teleconference is to review available advisory and background materials, identify additional information needs, discuss the draft charge questions to the SAB and plan for face-to-face meetings of the Panel.

Procedures for Providing Public Comment. It is the policy of the EPA Science Advisory Board (SAB) Staff Office to accept written public comments of any length, and to accommodate oral public comments whenever possible. The EPA SAB Staff Office expects that public statements presented at the Second Generation Model Advisory Panel's meetings will not be repetitive of previously submitted oral or written statements. Oral Comments: Requests to provide oral comments must be in writing (e-mail, fax or mail) and received by Dr. Stallworth no later than five business days prior to the teleconference in order to reserve time on the meeting agenda. For teleconferences, opportunities for oral comment will usually be limited to no more than three minutes per speaker and no more than fifteen minutes total. Written Comments: Although written comments are accepted until the date of the meeting (unless otherwise stated), written comments should be received in the SAB Staff Office at least five business days prior to the meeting date so that the comments may be made available to the committee for their consideration. Comments should be supplied to the DFO at the address/contact information noted above in the following formats: one hard copy with original signature, and one electronic copy via e-mail (acceptable file format: Adobe Acrobat, WordPerfect, Word, or Rich Text files (in IBM-PC/Windows 95/98 format).

Dated: November 8, 2004.
Vanessa T. Vu,
Director, EPA Science Advisory Board Staff Office.

[FR Doc. 04-25622 Filed 11-17-04; 8:45 am]

BILLING CODE 6560-50-P